DEPARTMENT OF AGRICULTURE

Animal and Plant Health Inspection Service

7 CFR Parts 318 and 319

[Docket No. 02-019-2]

Phytosanitary Treatments; Location of Treatment Schedules and Other Requirements; Correction

AGENCY: Animal and Plant Health Inspection Service, USDA.

ACTION: Final rule; correction.

SUMMARY: We are correcting errors in the amendatory instructions in our final rule that removed the Plant Protection and Quarantine Treatment Manual from the list of materials incorporated by reference and added treatment schedules and related requirements from that document to our phytosanitary treatments regulations. The final rule was effective and published in the Federal Register on June 7, 2005 (70 FR 33263-33326, Docket No. 02-019-1).

DATES: Effective July 15, 2005.

FOR FURTHER INFORMATION CONTACT: Ms. Meredith C. Jones, Regulatory Coordination Specialist, PPQ, APHIS, 4700 River Road Unit 141, Riverdale, MD 20737-1236; (301) 734-7467.

SUPPLEMENTARY INFORMATION: In a final rule effective and published in the Federal Register on June 7, 2005 (70 FR 33263-33326, Docket No. 02-019-1), we amended the plant health regulations by adding to 7 CFR part 305 treatment schedules and related requirements that had appeared in the Plant Protection and Quarantine Treatment Manual and by removing the Plant Protection and Quarantine Treatment Manual from the list of materials is incorporated by reference into the regulations.

In the final rule, it was our intention to amend the regulations by, among other things:

• In § 318.58-4a, redesignating paragraphs (b) through (d) as paragraphs (a) through (c), respectively;

• Revising the newly redesignated paragraph § 318.58-4a(a);

• In § 319.37-6(d)(2), redesignating footnote 9 as footnote 8 and revising the newly redesignated footnote 8;

• Amending § 319.56-2h; and

• In § 319.56-2h(d), removing the words “the Plant Protection and Quarantine Treatment Manual” and adding the words “part 305 of this chapter” in their place.

However, our amendatory instructions that were intended to accomplish these changes were either absent or erroneous. This document corrects these errors.

In FR Doc. 05-9387, published on June 7, 2004 (70 FR 33263-33326), make the following corrections:

§ 318.58-4a [Corrected]

1. On page 33324, in the amendments to 7 CFR part 318, in instruction 34 for § 318.58-4a, instruction b. is corrected to read as follows, and a new instruction d. is added to read as follows:

b. By redesignating paragraphs (b) through (d) as paragraphs (a) through (c), respectively.

d. By revising newly redesignated paragraph (a) to read as set forth below.

§ 319.37-6 [Corrected]

2. On page 33324, in the third column, in § 319.37-6, footnote number 3 is corrected to read footnote number 8.

§ 319.56-2h [Corrected]

3. On page 33325, in the amendments to 7 CFR part 319, instruction 58 for § 319.56-2h is corrected to read as follows, and in instruction 58, instruction c. is corrected to read as follows:

58. Section 319.56-2h is amended as follows:

c. In paragraph (d), by removing the words “the Plant Protection and Quarantine Treatment Manual” and adding the words “part 305 of this chapter” in their place.

Done in Washington, DC, this 7th day of July, 2005.
Elizabeth E. Gaston,
Acting Administrator, Animal and Plant Health Inspection Service.

[FR Doc. 05-13853 Filed 7-14-05; 8:45 am]

BILLING CODE 3410-34-P